DEPARTMENT OF HOMELAND SECURITY

Coast Guard

33 CFR Part 165

[CGD09-04-028]

RIN 1625-AA00

Safety Zone; Fireworks Displays in the Captain of the Port Detroit Zone

AGENCY: Coast Guard, DHS.

ACTION: Notice of implementation of regulation.

SUMMARY: Between June 23 and June 29, 2004, the Coast Guard will enforce permanent safety zones for annual fireworks displays in the Captain of the Port Detroit Zone. This action is necessary to provide for the safety of life and property on navigable waters during these events. These zones will restrict vessel traffic from a portion of the Captain of the Port Detroit Zone.

DATES: The safety zones in 33 CFR 165.907 will be enforced from June 23, 2004, until June 30, 2004.

FOR FURTHER INFORMATION CONTACT: ENS Cynthia Lowry, U.S. Coast Guard Marine Safety Office Detroit, MI, at (313) 568-9580.

SUPPLEMENTARY INFORMATION: The safety zones in 33 CFR 165.907 were established to provide for the safety of vessels in the vicinity of fireworks displays in the Captain of the Port Detroit Zone. Entry into these zones is prohibited during the following enforcement periods unless authorized by the Captain of the Port or his designee:

(1) The safety zone for the Bay-Rama Fishfly Festival, New Baltimore, MI, will be enforced June 24, 2004, from 9 p.m. to 11 p.m.

(2) The safety zone for the St. Clair Shores Fireworks, St. Clair Shores, MI, will be enforced on June 25, 2004, from 10 p.m. to 10:35 p.m.

(3) The safety zone for the Sigma Gamma Assoc., Grosse Pointe Farms, MI, will be enforced on June 28, 2004, from 8:30 p.m. to 10 p.m.

In order to ensure the safety of spectators and transiting vessels, these safety zones will be in effect for the duration of the events. In cases where shipping is affected, commercial vessels may request permission from the Captain of the Port Detroit to transit the safety zone. Approval will be made on a case-by case basis.

Requests must be made in advance and approved by the Captain of Port before transits will be authorized. The Captain of the Port may be contacted via U.S. Coast Guard Group Detroit on channel 16, VHF-FM.

Dated: June 2, 2004.
P.G. Gerrity,
Commander, U.S. Coast Guard, Captain of the Port Detroit.

[FR Doc. 04-13390 Filed 6-14-04; 8:45 am]

BILLING CODE 4910-15-P